DEPARTMENT OF THE INTERIOR

National Park Service

Draft Environmental Impact Statement/General Management Plan, For Vancouver National Historic Site, Clark County, Washington; Notice of Availability

SUMMARY: Pursuant to § 102(2)(C) of the National Environmental Policy Act of 1969 (Pub. L. 91-190, as amended), and the Council on Environmental Quality Regulations (40 CFR part 1500-1508), the National Park Service (NPS), Department of the Interior, has prepared a draft general management plan (GMP) and environmental impact statement (EIS) for Fort Vancouver National Historic Site (NHS) located in Vancouver, Washington. This GMP describes and analyzes three alternatives which respond to both NPS planning requirements and to the issues identified during the public scoping process. These alternatives address visitor use and the preservation of the cultural and natural resources that provide the environment in which the Hudson's Bay Company story is presented to the public. Alternative A constitutes the No Action alternative and assumes that existing programming, facilities, staffing, and funding would generally continue at their current levels. Alternative B, the Preferred Alternative, expands opportunities for the visitor to appreciate the broad sense of history that occurred at Fort Vancouver and its place in Northwest history. Alternative C, proposes full reconstruction within the Fort and additional reconstruction or delineation elsewhere within the NHS. The environmental consequences of all the alternatives, and mitigation strategies, are identified and analyzed in the EIS.

Scoping: Public meetings were initiated in January 1999 to solicit early participation into the conservation planning and environmental impact analysis process, and aided in defining the range of issues to be analyzed. A Notice of Intent announcing the decision to prepare the general management plan and environmental impact statement was published in the Federal Register on January 7, 1999. A newsletter was produced and mailed to approximately 600 people on the park's mailing list to encourage participation and comment on critical park issues. The park received 29 written comment letters. The NPS held two public meetings in January 2000 and received and recorded over 150 oral comments during the two meetings. Scoping comments continued to be accepted and considered through the end of March 1999. During this period, the NPS facilitated discussions and briefings to park staff, the Vancouver National Historic Reserve Trust Board, congressional staff, elected officials, tribal representatives, public service organizations, educational institutions, and other interested members of the public.

Proposed Plan and Alternatives: The draft EIS/GMP includes two action alternatives and a no-action (existing conditions) alternative. Under all the alternatives, the agricultural fields around the fort palisade would be restored as part of the Hudson's Bay Company (HBC) historic landscape when the City of Vancouver vacates Pearson Airfield T-hangars and the former aviation museum building by the end of the year 2002. In addition, The NPS staff would administer any and all portions of the south and east Vancouver Barracks area determined to be excess to the needs of the U.S. Army by the Secretary of the Army. Use of this area could include restoring the Vancouver Barracks cultural landscape, adapting and reusing existing historic buildings, leasing properties to the City of Vancouver, providing for additional parking, staging public transportation operations, and incorporating administrative functions. Decisions would be made in consultation with the Reserve Partners.

Alternative A is the no-action alternative and assumes that existing conditions, including programming, facilities, staffing, and funding, would generally continue at their current levels. This alternative would include fulfilling the existing commitments and relationships with the Reserve Partners and providing technical assistance to the McLoughlin House National Historic Site in Oregon City, Oregon, currently an affiliated unit of the National Park System. No new substantial facility or program initiatives would be proposed under this alternative. The NHS would continue to work with the City of Vancouver to extend the City's proposed Discovery Historic Loop Trail through the Village of the NHS and along East Fifth Street. In cooperation with the City of Vancouver and Washington Department of Transportation, the pedestrian overpass would be built over State Route 14 and the railroad to connect the Fort Vancouver Waterfront and the City's Old Apple Tree Park to link the Fort and HBC Village. The current NHS visitor center would be retained in its current configuration and location, as would the current Vancouver National Historic Reserve visitor center situated in the historic General O.O. Howard House at the Vancouver Barracks.

Alternative B constitutes the Preferred Alternative, and this proposed course of action has also been determined to be the “environmentally preferred” alternative. Alternative B contains several new elements for implementation that would result in expanded opportunities for the visitor to appreciate the broad sense of history that occurred at Fort Vancouver and its place in Northwest history. Specific actions include the reconstruction of nine HBC period structures within the fort palisade and two at the Village. A research and education center would be developed within the fort. Interpretive components would be added including wayside exhibits and delineation of structures in certain locations. Much of the historic landscape would be restored. The NPS would develop an interpretive area at the Waterfront by partially reconstructing the Salmon Store as an interpretive shed, and delineating several other historic HBC structures. The original location of the wharf would be simulated and the historic pond delineated with wetland plants. A portion of Columbia Way would be realigned to better accommodate visitor circulation and interpretation.

In cooperation with the City of Vancouver and the Washington Department of Transportation, the pedestrian overpass would be widened as a land bridge to allow for interpretation devices and vegetation. A local transit authority, in cooperation with NPS and other Reserve Partners, would implement a shuttle system to facilitate visitation. Other cooperative sharing would include administrative, maintenance, and visitor facilities with Reserve Partners. The NPS would recommend that one of the four buildings fronting the historic Parade Ground as determined excess by the Secretary of the Army be renovated as the joint administrative headquarters for the part and other Reserve offices. Maximum use would be made of existing structures including renovation of the existing Fort Vancouver visitor center as the Vancouver National Historic Reserve visitor center jointly managed by the Reserve Partners including the NPS.

Implementation of this alternative would result in development of additional educational outreach programs and new research facilities related to the HBC and early U.S. Army period. This alternative recommends that the McLoughlin House National Historic Site in Oregon City, Oregon become a unit of Fort Vancouver NHS and be managed by Fort Vancouver National Historic Site staff. An act of Congress would be required to implement this recommendation.

Alternative C contains many of the same actions as the Preferred Alternative, but key differences include: Full reconstruction within the fort palisade, along with the reconstruction of the two historic School Houses and a barn to the north of the Fort. Additional delineation of structures would occur at the Waterfront and the Village. The historic Salmon Store would be reconstructed along the Columbia River shoreline, as would the historic wharf and other waterfront features. An ethnobotanical garden would be constructed to interpret the local historic uses of native plants. An opening in the railroad berm would be created to visually link the Fort to the Waterfront. To facilitate visitor use and interpretation, a portion of Columbia Way would be closed to vehicular traffic in cooperation with the City of Vancouver. The current NHS visitor center would be renovated and retained for more detailed interpretation concerning Fort Vancouver, while a new location would be sought for a joint Vancouver National Historic Reserve visitor facility to provide the public with information and orientation to all the Reserve stories and venues. The location for this facility is yet to be determined, but priority would be given to rehabilitation of an historic structure within the Vancouver Barracks Historic District that is listed in the National Register of Historic Places. The research and education center would be located within the Vancouver Barracks portion of the Reserve.

Public Review and Comment: The draft EIS/GMP is now available for public review. Interested persons and organizations wishing to express any concerns or provide relevant information are encouraged to obtain the document from the Superintendent, Fort Vancouver National Historic Site, 612 East Reserve Street, Vancouver, Washington 98661, or via telephone at (360) 696-7655. The document may also be reviewed at area libraries, or obtained electronically via the park's Web site at http://www.nps.gov/fova/news.htm.

In addition, the park will conduct public meetings to facilitate public review and comment on the draft EIS/GMP. At this time, meetings are scheduled for December 11 (Vancouver, Washington) and December 12 (Oregon City, Oregon). Confirmed details on meeting locations, times, etc., will be posted on the park's Web site, or can be obtained by contacting the Superintendent, as noted above.

All written comments must be postmarked not later than 60 days following the date the EPA notice of filing is published in the Federal Register, or February 8, 2003, whichever is later—immediately upon determination of the actual date this will be announced via local and regional news media and posted on the park's Web site. All comments will become part of the public record. If individuals submitting comments request that their name or/and address be withheld from public disclosure, the request will be honored to the extent allowable by law. Such requests must be stated prominently in the beginning of the comments. There also may be circumstances wherein the NPS will withhold a respondent's identity as allowable by law. As always: the NPS will make available to public inspection all submissions from organizations or businesses and from persons identifying themselves as representatives or officials or organizations; and, anonymous comments may not be considered.

Decision: Following the review period for the draft EIS/GMP, all comments received will be considered in preparing the final EIS/GMP. The final document is anticipated to be completed during spring 2003. Its availability will be similarly announced in the Federal Register. As this is a delegated EIS, the official responsible for the final decision is the Regional Director, Pacific West Region; subsequently the official responsible for implementation would be the Superintendent, Fort Vancouver National Historic Site.

Dated: November 25, 2002.
Arthur E. Eck,
Acting Regional Director, Pacific West Region.

[FR Doc. 02-30485 Filed 12-2-02; 8:45 am]

BILLING CODE 4310-70-M